DEPARTMENT OF COMMERCE

National Oceanic and Atmospheric Administration

Public Meetings for Recommending a National Estuarine Research Reserve Site[S] in the Green Bay Coastal Area of Lake Michigan

AGENCY: Office for Coastal Management, National Ocean Service, National Oceanic and Atmospheric Administration, Department of Commerce.

ACTION: Public meeting notice.

SUMMARY: Notice is hereby given that two public meetings will be held for the purpose of providing information and receiving comments on the preliminary recommendation by the State of Wisconsin that portions of the Green Bay coastal area of Lake Michigan be proposed to National Oceanic and Atmospheric Administration (NOAA) for designation as a National Estuarine Research Reserve.

DATES: The in-person public meeting will be held at 1 p.m. on September 7, 2022, in the S.T.E.M. Innovation Center at the University of Wisconsin Green Bay campus, located at 2019 Technology Way, Green Bay, WI 54311.

The virtual public meeting will be held at 3:30 p.m. on September 8, 2022, at: https://wisconsin-edu.zoom.us/j/99551264991?pwd=QUlPc0dhWSthRUFGaDYvakZvNG1XUT09. If requested upon joining the virtual meeting, the meeting ID is 995 5126 4991, and the attendee access code is NERR. Participants may also join the meeting by phone by using this toll-free number +1 312 626 6799, and meeting ID 995 5126 4991, and attendee access code 688730.

Both public meetings will present the same information.

The State agency holding the meetings is the University of Wisconsin-Green Bay. NOAA's Office for Coastal Management will assist with the meetings.

ADDRESSES: This hearing will present the State's proposed nomination. Detailed information on the proposed site[s] can be found on the University of Wisconsin-Green Bay website: https://www.uwgb.edu/national-estuarine-research-reserves/.

The views of interested persons and organizations regarding the proposed nomination are solicited. This information may be expressed verbally and in written statements. A presentation about the proposal and the National Estuarine Research Reserve System will be provided at both meetings. Written comments may also be sent to: Emily Tyner, University of Wisconsin-Green Bay Director of Freshwater Strategy, at tynere@uwgb.edu. All written comments must be received no later than seven days following the public meetings [September 15, 2022]. All comments received will be considered by the State when formally nominating a site or sites to NOAA.

FOR FURTHER INFORMATION CONTACT: Ms. Erica Seiden, Office for Coastal Management, National Ocean Service, NOAA, 1305 East West Highway,N/OCM, Silver Spring, MD 20910 or by email at erica.seiden@noaa.gov or phone at 240-388-9209.

SUPPLEMENTARY INFORMATION: The research reserve system is a Federal and State partnership program administered by the Federal government, specifically NOAA. The research reserve system currently has 30 sites and protects more than 1.3 million acres (5,260 square kilometers) of estuarine and Great Lakes habitat for long-term research, monitoring, education, and stewardship. Established by the Coastal Zone Management Act of 1972, each reserve is managed by a lead State agency or university, with input from local partners. NOAA provides partial funding and national programmatic guidance.

This particular site selection effort is a culmination of several years of local, grassroots-support for a research reserve in Wisconsin. The proposed site[s] presented at this meeting follow a comprehensive evaluation process that sought the views of the public, affected landowners, and other interested parties. State and local agency representatives, Tribal nations, as well as estuarine experts, served as committee members and evaluated site proposals.

Federal Domestic Assistance Catalog Number 11.420 (Coastal Zone Management) Research Reserves.

Keelin S. Kuipers,
Deputy Director, Office for Coastal Management, National Ocean Service, National Oceanic and Atmospheric Administration.

[FR Doc. 2022-17675 Filed 8-16-22; 8:45 am]

BILLING CODE 3510-JE-P